DEPARTMENT OF JUSTICE

Immigratin and Naturalization Service

[INS No. 2163-0901; AG Order No. 2503-092001]

RIN 1115-09AE26

Extension of the Designation of Sudan Under the Temporary Protected Status Program

AGENCY: Immigration and Naturalization Service, Justice.

ACTION: Notice.

SUMMARY: The designation of Sudan under the Temporary Protected Status (TPS) program will expire on November 2, 2001. This notice extends the Attorney General's designation of Sudan under the TPS program for 12 months until November 2, 2002, and sets forth procedures necessary for nationals of Sudan (or aliens having no nationality who last habitually resided in Sudan) with TPS to re-register for the additional 12-month period. Eligible nationals of Sudan (or aliens having no nationality who last habitually resided in Sudan) may re-register for TPS and an extension of employment authorization. Re-registration is limited to persons who (1) registered during the initial registration period, which ended on November 3, 1998, registered during the redesignation registration period, which ended on November 2, 2000, or registered after that date under the late initial registration provisions; and (2) timely re-registered under each of any subsequent extensions. Nationals of Sudan (or aliens having no nationality who last habitually resided in Sudan) who previously have not applied for TPS may be eligible to apply under the late initial registration provisions.

EFFECTIVE DATES: The extension of the TPS designation for Sudan is effective November 2, 2001, and will remain in effect until November 2, 2002. The 90-day re-registration period begins August 31, 2001, and will remain in effect until November 29, 2001.

FOR FURTHER INFORMATION CONTACT: Rebecca K. Peters, Residence and Status Services Branch, Adjudications, Immigration and Naturalization Service, Room 3214, 425 I Street, NW., Washington, DC 20536, telephone (202) 514-094754.

SUPPLEMENTARY INFORMATION:What Authority Does the Attorney General Have To Extend the Designation of Sudan Under the TPS Program? Section 244(b)(3)(A) of the Immigration and Nationality Act (Act) states that at least 60 days before the end of a designation or extension thereof, the Attorney General must review conditions in the foreign state for which the designation is in effect. 8 U.S.C. 1254a(b)(3)(A). If the Attorney General does not determine that the foreign state no longer meets the conditions for designation, the period of designation is extended automatically for 6 months pursuant to section 244(b)(3)(C) of the Act, although the Attorney General may exercise his discretion to extend the designation for a period of 12 or 18 months. 8 U.S.C. 1254a(b)(3)(C). With respect to Sudan, such an extension makes TPS available only to persons who have been continuously physically present since November 9, 1999, and have continuously resided in the United States since November 9, 1999.

Why Did the Attorney General Decide To Extend the TPS Designation for Sudan?

On November 4, 1997, the Attorney General designated Sudan under the TPS program for a period of 12 months. 62 FR 59737. The Attorney General has since extended the TPS designation two times and redesignated Sudan once after determining that the conditions warranting such designation continued to be met each time. See 65 FR 67407 (Nov. 9, 2000) (extension); 64 FR 61128 (Nov. 9, 1999) (extension and redesignation), 63 FR 59337 (Nov. 3, 1998) (extension).

Since the date of the last extension, the Departments of Justice and State have continued to review conditions in Sudan. The review has resulted in a consensus that a further 12-month extension is warranted. The State Department reports that: “Civil war continues in Sudan and has reportedly worsened in the past year, with increased fighting and bombings * * * . The 1998 cease-fire is now long defunct, and the [Government of Sudan] has reportedly indiscriminately bombed overwhelmingly civilian populations on an almost weekly basis. There have been substantial human rights abuses by both Government and rebel forces.” Recommendation for Temporary Protected Status, INS/DOS Consultation for Sudan (July 12, 2001). This has caused extensive displacement of populations. Id. The State Department indicates that: “Insecurity and forced population relocations have destroyed most of the indigenous trading and production systems. The risk of famine continues as fighting impedes relief efforts.” Id.

Based on this review, the Attorney General finds that the conditions that prompted designation of Sudan under the TPS program continue to be met. 8 U.S.C. 1254a(b)(3)(A). There is an ongoing armed conflict within Sudan and, due to such conflict, requiring the return of aliens who are nationals of Sudan (or aliens having no nationality who last habitually resided in Sudan) would pose a serious threat to their personal safety. 8 U.S.C. 1254a(b)(3)(A). Furthermore, there exist extraordinary and temporary conditions in Sudan that prevent nationals of Sudan (and aliens having no nationality who last habitually resided in Sudan) from returning home in safety. 8 U.S.C. 1254a(b)(1)(C). Finally, permitting nationals of Sudan to remain temporarily in the United States is not contrary to the national interest or the United States. 8 U.S.C. 1254a(b)(1). On the basis of these findings, the Attorney General concludes that the TPS designation for Sudan should be extended for a period of 12 months.

If I Currently have TPS, How Do I Re-Register for an Extension?

If you have already been granted TPS through the Sudan TPS program, your TPS will expire on November 2, 2001. Persons previously granted TPS under the Sudan program may apply for an extension by filing (1) the Form I-821, Application for Temporary Protection Status, without the fee, (2) the Form I-765, Application for Employment Authorization, and (3) two identification photographs (1½ inches x 1½ inches). To determine whether you must submit the one hundred dollar ($100) filing fee with the Form I-765, see the chart below. Children beneficiaries of TPS who have reached the age of 14 but were not previously fingerprinted must pay the twenty-five dollar ($25) fingerprint fee upon their next application for extension.

Submit the re-registration package to the Immigration and Naturalization Service (Service) district office that has jurisdiction over your place of residence during the 90-day re-registration period that begins August 31, 2001 and will remain in effect until November 29, 2001.

If | Then
You are applying for employment authorization through November 2, 2002 | You must complete and file: (1) Form I-765, Application for Employment Authorization, with the $100 fee.
You already have employment authorization or do not require employment authorization | You must complete and file: (1) Form I-765, with no filing fee.
You are applying for employment authorization and are requesting a fee waiver | You must complete and file: (1) Fee waiver request and affidavit (and any other information) in accordance with 8 CFR 244.20, and (2) Form I-765, with no fee.

How Does an Application for TPS Affect My Application for Asylum or Other Immigration Benefits?

An application for TPS does not affect an application for asylum or any other immigration benefit. Denial of an application for asylum or any other immigration benefit does not necessarily affect disposition of a separate TPS application, though grounds for denying one form of relief may serve as the basis for denying TPS as well. For example, a person who has been convicted of a particularly serious crime is ineligible for both asylum and TPS. 8 U.S.C. 1158(b)(2); 8 U.S.C. 1254a(c)(2)(B).

Does This Extension Allow Nationals of Sudan (or Aliens Having no Nationality Who Last Habitually Resided in Sudan) Who Entered the United States After November 9, 1999, To File for TPS?

No. This is a notice of an extension of the TPS designation for Sudan, not a notice of redesignation of Sudan under the TPS program. An extension of TPS does not change the required dates of continuous residence and continuous physical presence in the United States and, thus, does not expand TPS availability to include nationals of Sudan (or aliens having no nationality who last habitually resided in Sudan) who have not been continuously physically present in, and have not continuously resided in, the United States since November 9, 1999.

Is Late Registration Possible?

Yes. Some persons may be eligible for late initial registration under 8 CFR 244.2(f)(2). To apply for late initial registration an applicant must:

(1) Be a national of Sudan (or an alien who has no nationality and who last habitually resided in Sudan);

(2) Have been continuously physically present in the United States since November 9, 1999;

(3) Have continuously resided in the United States since November 9, 1999; and

(4) Be both admissible as an immigrant, except as otherwise provided under section 244(c)(2)(A) of the Act, and also not ineligible under section 244(c)(2)(B) of the Act.

Additionally, the applicant must be able to demonstrate that, during the redesignation registration period from November 9, 1999, through November 2, 2000, he or she:

(1) Was a nonimmigrant or had been granted voluntary departure status or any relief from removal;

(2) Had an application for change of status, adjustment of status; asylum, voluntary departure, or any relief from removal of status pending or subject to further review or appeal;

(3) Was a parolee or had a pending request for reparole; or

(4) Was the spouse or child of an alien currently eligible to be a TPS registrant. 8 CFR 244.2(f)(2).

An applicant for late initial registration must register no later than 60 days from the expiration or termination of the conditions described above. 8 CFR 244.2(g).

Notice of Extension of Designation of Sudan Under the TPS Program.

By the authority vested in me as Attorney General under sections 244(b)(1), (b)(3)(A), and (b)(3)(C) of the Act, I have consulted with the appropriate government agencies and determine that the conditions that prompted designation of Sudan for TPS continue to be met. 8 U.S.C. 1254a(b)(3)(A). Accordingly, I order as follows:

(1) The designation of Sudan under section 244(b) of the Act is extended for an additional 12-month period from November 2, 2001 through November 2, 2002. 8 U.S.C. 1254a(b)(3)(C).

(2) I estimate that there are approximately 1,903 nationals of Sudan (or aliens who have no nationality and who last habitually resided in Sudan) who have been granted TPS and who are eligible for re-registration.

(3) In order to be eligible for TPS during the period from November 2, 2001 to November 2, 2002, a national of Sudan (or an alien who has nationality and who last habitually resided in Sudan) who has already received a grant of TPS under the Sudan TPS designation must re-register for TPS by filing (1) the new Form I-821, Application for Temporary Protected Status, (2) the Form I-765, Application for Employment Authorization, and (3) two identification photographs (1½ inches × 1½ inches), within the 90-day period beginning on August 31, 2001 and ending on November 29, 2001. There is no fee for a Form I-821 filed as part of the re-registration application. If the applicant requests employment authorization, he or she must submit one hundred dollars ($100) or a properly documented fee waiver request, pursuant to 8 CFR 244.20, with the Form I-765. An applicant who does not request employment authorization must nonetheless file the Form I-765 along with the Form I-821, but is not required to submit the fee. The twenty-five dollar ($25) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2(f)(2).

(4) At least 60 days before this extension terminates on November 2, 2002, the Attorney General will review the designation of Sudan under the TPS program and determine whether the conditions for designation continue to be met. 8 U.S.C. 1254a(b)(3)(A). Notice of that determination, including the basis for the determination, will be published in the Federal Register 8 U.S.C. 1254a(b)(3)(A).

(5) Information concerning the Sudan TPS program will be available at local Service offices upon publication of this notice and on the Service website at http://www.ins.usdoj.gov.

Dated: August 28, 2001.
Larry D. Thompson,
Acting Attorney General.

[FR Doc. 01-22130 Filed 8-29-01; 2:56 pm]

BILLING CODE 4410-10-M